DEPARTMENT OF COMMERCE

Foreign-Trade Zones Board

[B-40-2023]

Foreign-Trade Zone (FTZ) 255, Notification of Proposed Production Activity; Lenox Corporation; (Kitchenware, Tableware, Home Décor Sets); Hagerstown, Maryland

The Board of County Commissioners of Washington County, Maryland, grantee of FTZ 255, submitted a notification of proposed production activity to the FTZ Board (the Board) on behalf of Lenox Corporation, located in Hagerstown, Maryland within FTZ 255. The notification conforming to the requirements of the Board's regulations (15 CFR 400.22) was received on June 8, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include sets of cookware, servingware, dinnerware, organizers, flatware, tableware, drinkware, home décor, stemware, cutlery, and kitchenware (duty rate ranges from duty-free to 26%).

The proposed foreign-status materials and components include: silicone straws; wood cutting boards; wax filled candles; plastic cookware; plastic trays; plastic dinnerware; plastic drinkware; wood utensil organizers; wood eating utensils; wood tableware caddies; wood servingware; wood flatware chests; paperboard gift boxes; thermal travel mugs; porcelain dinnerware; porcelain hotel and restaurant dinnerware; porcelain servingware; porcelain drinkware; porcelain steins; porcelain paper towel holders; ceramic pet bowls; ceramic steins; ceramic dinnerware; ceramic restaurant and hotel dinnerware; ceramic servingware; ceramic bakeware; ceramic cookie jar; ceramic utensil crocks; ceramic teapots; ceramic drinkware; ceramic shaker sets; ceramic ornaments; ceramic picture frames; ceramic vases; ceramic figurines; glass stemware; crystal flute sets; crystal stemware; crystal drinkware; glass drinkware; glass decanters; glass servingware; crystal ring holders; glass picture frames; glass figurines; silver jewelry boxes; pearl picture frames; stainless steel servingware; stainless steel teakettles; stainless steel coated containers; stainless steel food storage boxes; copper food storage containers; aluminum drinkware; zinc coin banks; stainless steel blade sharpeners; stainless steel wine openers; mechanical kitchen appliances; stainless steel knives; stainless steel knife sets; stainless steel kitchen shears; nonmechanical metal blades; stainless steel kitchenware sets including items such as spoons, forks, ladles, skimmers, cake-servers, fish-knives, butter-knives, sugar tongs; silver-plated metal servingware sets; silver-plated metal flatware sets; stainless steel flatware; stainless steel servingware; stainless steel dinnerware; silver-plated metal statuettes; silver-plated metal picture frames; electric toasters; music boxes; steel display trays; brass candle holders; porcelain figurines; stainless steel cake toppers; and, stainless steel insulated flasks (duty rate ranges from duty-free to 28%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is July 31, 2023.

A copy of the notification will be available for public inspection in the “Online FTZ Information System” section of the Board's website.

For further information, contact Diane Finver at Diane.Finver@trade.gov.

Dated: June 13, 2023.
Elizabeth Whiteman,
Executive Secretary.

[FR Doc. 2023-13015 Filed 6-16-23; 8:45 am]

BILLING CODE 3510-DS-P